NATIONAL SCIENCE FOUNDATION

Advisory Committee for Education and Human Resources; Notice of Meeting

In accordance with the Federal Advisory Committee Act (Pub. L. 92-463, as amended), the National Science Foundation announces the following meeting.

Name: Advisory Committee for Education and Human Resources (ACEHR) (#1119).

Date and Time: May 12, 8:30 a.m.-6 p.m.; May 13, 8:30 a.m.-3 p.m.

Place: National Science Foundation, 4201 Wilson Boulevard, Arlington, VA 22230.

Type of Meeting: Open.

For Further Information Contact: Sheila R. Tyndell, Staff Assistant, Directorate for Education and Human Resources, National Science Foundation, 4201 Wilson Boulevard, Room 805, Arlington, VA 22230, 703-292-8601.

Summary Minutes: May be obtained from contact person listed above.

Purpose of Meeting: To provide advice and recommendations concerning NSF support for Education and Human Resources.

Agenda: Discussion of FY 2004 programs of the Directorate for Education and Human Resources and planning for future activities.

Dated: April 12, 2004.
Susanne Bolton,
Committee Management Officer, HRM.

[FR Doc. 04-8668 Filed 4-15-04; 8:45 am]

BILLING CODE 7555-01-M